DEPARTMENT OF EDUCATION

Extension of Approval Period for Certain Tests Used in the National Reporting System for Adult Education

AGENCY: Office of Vocational and Adult Education, Department of Education.

ACTION: Extension of approval period.

SUMMARY: The Secretary announces an extension of the approval period for tests that were determined to be suitable for use in the National Reporting System for a period of three years, which would otherwise expire on February 2, 2013. The approval period for these tests is extended to September 30, 2013. This extension of the approval period will allow for the completion of the current National Reporting System assessment review cycle.

FOR FURTHER INFORMATION CONTACT: John LeMaster, Department of Education, 400 Maryland Avenue SW., Room 11159, PCP, Washington, DC 20202-7240. Telephone: (202) 245-6218 or by email: John.LeMaster@ed.gov.

If you use a telecommunications device for the deaf (TDD) or a text telephone (TTY), call the Federal Relay Service (FRS), toll free, at 1-800-877-8339.

SUPPLEMENTARY INFORMATION:

Background

On January 14, 2008, the Department published in the Federal Register final regulations for 34 CFR part 462, Measuring Educational Gain in the National Reporting System for Adult Education (NRS regulations) (73 FR 2306). The NRS regulations established the process that the Secretary uses to determine the suitability of tests for use in the NRS. We annually publish in the Federal Register, and post on the Internet at www.nrsweb.org, a list of the names of tests and the educational functioning levels the tests are suitable to measure in the NRS as required by 34 CFR 462.12(c)(2).

On April 16, 2008, we published in the Federal Register a notice providing test publishers an opportunity to submit tests for review under the NRS regulations (73 FR 20616) (April 2008 notice). On February 2, 2010, after completing a review of tests submitted in response to the April 2008 notice, we published in the Federal Register a notice (February 2010 notice) listing the tests and test forms that the Secretary determined to be suitable for use in the NRS (75 FR 5303). The Secretary determined tests and test forms to be suitable for a period of either seven or three years from the date of the February 2010 notice. A seven-year approval required no additional action on the part of the publisher, unless the information that the publisher submitted as a basis for the Secretary's review was inaccurate or unless the test was substantially revised. A three-year approval required a set of conditions to be met in order to gain a longer approval period. If the conditions were met, the Secretary would approve a period of time for which the test may continue to be used in the NRS. The three-year approvals expire on February 2, 2013.

On September 12, 2011, we published in the Federal Register (76 FR 56188) a notice (September 2011 notice) to update the list published on February 2, 2010 (75 FR 5303) and clarify and include suitable test delivery formats. On August 6, 2012, we published in the Federal Register (77 FR 46749) a notice (August 2012 notice) announcing the same list of test forms and computer delivery formats that continued to be suitable for use in the NRS, but also announcing a period during which States may sunset an expiring test and transition to other tests suitable for use in the NRS. Specifically, under the sunset provision, States may continue to use tests with three-year NRS approvals expiring on February 2, 2013, during a transition period ending on June 30, 2014. States may use the transition period to select new tests determined to be suitable by the Department, purchase appropriate inventories of assessment materials, and provide training to staff. Finally, on September 6, 2012, we announced in the Federal Register (77 FR 54904) the next NRS review cycle, inviting publishers to submit tests by October 1, 2012 so that the Department may determine their suitability for use in the NRS. The Department is currently conducting the assessment reviews.

Extension of Approval Period for Expiring Tests

As stated, the Department previously determined that certain tests were suitable for use in the NRS for a period of three years, beginning on February 2, 2010 and expiring on February 2, 2013. The expiration of the three-year approvals will occur during the Department's current NRS assessment reviews. To allow for the completion of the current NRS assessment review cycle, the Secretary is extending the approval period for these tests to September 30, 2013. Thus, all tests determined to be suitable for use in the NRS through February 2, 2013 may continue to be used in the NRS through September 30, 2013. This extension does not affect the sunset period for expiring tests provided in the August 2012 notice; the sunset period is available until it ends on June 30, 2014. (Authority: 34 CFR 462.14)

Accessible Format: Individuals with disabilities can obtain this document in an accessible format (e.g., braille, large print, audiotape, or compact disc) on request to the contact person listed under FOR FURTHER INFORMATION CONTACT in this notice.

Electronic Access to This Document: The official version of this document is the document published in the Federal Register. Free Internet access to the official edition of the Federal Register and the Code of Federal Regulations is available via the Federal Digital System at: www.gpo.gov/fdsys. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Program Authority: 20 U.S.C. 9212.

Dated: January 22, 2013.
Johan Uvin,
Deputy Assistant Secretary for Policy and Strategic Initiatives.

[FR Doc. 2013-01574 Filed 1-24-13; 8:45 am]

BILLING CODE 4000-01-P